DEPARTMENT OF HEALTH AND HUMAN SERVICES

Administration for Children and Families

Submission for Office of Management and Budget (OMB) Review; Refugee Assistance Program Estimates: Cash and Medical Assistance-ORR-1 (Office of Management and Budget #: 0970-0030)

AGENCY: Office of Refugee Resettlement, Administration for Children and Families, U.S. Department of Health and Human Services.

ACTION: Request for public comments.

SUMMARY: The Office of Refugee Resettlement (ORR), Administration for Children and Families (ACF), U.S. Department of Health and Human Services is requesting revisions to an existing data collection, ORR-1 Cash and Medical Assistance (CMA) Program Estimates (Office of Management and Budget (OMB) #0970-0030, expiration June 30, 2025. The proposed revisions include minor revisions to the existing ORR-1 form and the addition of a template recipients must use in preparing their annual budget justification estimates in accordance with the refugee resettlement program regulations.

DATES: Comments due July 24, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The ORR-1, CMA Program Estimates, is the application for grants under the CMA program. The application is required by ORR program regulations at 45 CFR 400.11(b). The regulation specifies that states must submit, as their application for this program, estimates of the projected costs they anticipate incurring in providing CMA for eligible recipients and the costs of administering the program. Under the CMA program, states are reimbursed for the costs of providing these services and benefits for 4 months after an eligible recipient arrives in this country. The eligible beneficiaries for these services and benefits are refugees, Amerasians, Cuban and Haitian Entrants, asylees, Afghans and Iraqi with Special Immigrant Visas, victims of a severe form of trafficking, and other populations specified by Congress. States that provide services for unaccompanied refugee minors also provide an estimate for the cost of these services for the year for which they are applying for grants.

The proposed revisions include minor changes to the existing ORR-1 form and the addition of a template recipients must use in preparing their annual budget justification estimates in accordance with the refugee resettlement program regulations. Currently, recipients must submit the ORR-1, CMA Program Estimates, as the application for grants under the CMA program. A budget justification in support of CMA estimates must be submitted along with the ORR-1 form; however, ORR does not currently provide a standardized budget justification template. As a result, submissions vary widely in format, content, and level of detail, making it challenging to extract and standardize information, which increases the burden on both ORR reviewers and recipients. This revision to the information collection process requires states and Replacement Designees (RD) to submit budget justifications in a standardized format via a Microsoft Excel workbook, with each tab of the justification in alignment with a specific line on the ORR-1. The ORR-1 form has been updated with minor revisions, including updated column and line titles to reflect current terminology, and a simplified structure that replaces unit cost estimates with total cost estimates. These revisions are a result of the standardization of the budget justification.

The revised instructions, which are now embedded within the standardized budget justification, provide guidance to recipients on how to fill out each section of the standardized budget justification. The recipients work through corresponding sections of the instructions and budget justification, and the standardized format makes clear what information is needed and at what level of detail. Upon completion of the budget justification, the values needed to populate the ORR-1 form are automatically calculated, and recipients are instructed to transfer specific data from the budget justification to the ORR-1 form in the system of record.

ORR conducted a pilot of the standardized budget justification. Feedback was positive, with participating states citing time savings in development of their budget justification and more streamlined and consistent review and analysis by ORR reviewers. The annual burden estimate has been revised to reflect this.

Respondents: State Agencies, the District of Columbia, and Replacement Designees under 45 CFR 400.301(c) administering or supervising the administration of programs under Title IV of the Act.

Annual Burden Estimates
Information collection | Total number of respondents | Annual number of responses per respondent | Average burden hours per response | Total burden hours
ORR-1, CMA Program Estimates | 57 | 1 | 0.5 | 28.5

Authority: 8 U.S.C. 1522(a)(4).

Mary C. Jones,
ACF/OPRE Certifying Officer.

[FR Doc. 2025-11546 Filed 6-23-25; 8:45 am]

BILLING CODE 4184-45-P